DEPARTMENT OF EDUCATION

[CFDA No. 84.215F]

Office of Elementary and Secondary Education; Carol M. White Physical Education Program; Notice Inviting Applications for New Awards for Fiscal Year (FY) 2002

Purpose of Program

This program provides grants to initiate, expand, and improve physical education programs, including after-school programs, for students in kindergarten through 12th grade in order to make progress toward meeting State standards for physical education.

For FY 2002 the competition for new awards focuses on projects designed to meet the absolute priority we describe in the PRIORITIES section of this application notice.

The Safe and Drug-Free Schools Program will administer this grant competition.

Eligible Applicants: Local educational agencies (LEAs) and community-based organizations (CBOs)

Applications Available: April 23, 2002.

Deadline for Transmittal of Applications: June 7, 2002.

Deadline for Intergovernmental Review: August 6, 2002.

Estimated Available Funds: $49,500,000.

Estimated Range of Awards: $100,000—$500,000.

Estimated Average Size of Awards: $300,000.

Estimated Number of Awards: 165.

Note: The Department is not bound by any estimates in this notice.

Project Period: Up to 12 months.

Applicable Regulations: (a) The Education Department General Administrative Regulations (EDGAR) in 34 CFR parts 74, 75, 77, 79, 80, 81, 82, 85, 97, 98, and 99.

Priorities

This competition focuses exclusively on projects designed to meet a priority in the program statute (see 34 CFR 75.105(b)(2)(v)) and sections 5501-5507, part D, subpart 10 of title V of the ESEA (20 U.S.C. 7261.

Absolute Priority

Projects must initiate, expand, and improve physical education programs for students in one or more grades from kindergarten through grade 12 in order to make progress toward meeting State standards for physical education.

For FY 2002 this priority is an absolute priority. Under 34 CFR 75.105(c)(3) we consider only applications that meet the priority.

Competitive Preference Priority

Within the absolute priority for this competition for FY 2002, we will award five additional points to novice applicants. These points are in addition to any points the application earns under the evaluation criteria for the program.

Note: The total number of points an application may earn is 105.

Other Requirements

The following requirements also apply to this competition.

Administrative Costs

Not more than 5 percent of the grant funds made available to an LEA or CBO in any fiscal year may be used for administrative costs.

Federal Share

The Federal share for grants under this program may not exceed 90 percent of the total cost of a project. Applicants should calculate the maximum Federal share by determining the total cost of the proposed project and multiplying that amount by 0.90.

Prohibition Against Supplanting

Grant funds made available under this program shall be used to supplement and not supplant other Federal, State, or local funds available for physical education activities.

Participation of Home-Schooled or Private School Students

An application for funds under this program may provide for the participation of students enrolled in private, nonprofit elementary or secondary schools and their parents and teachers, or home-schooled students and their parents and teachers.

Equitable Distribution

We will ensure, to the extent practicable, an equitable distribution of awards among applicants serving urban and rural areas.

Additional Awards

Contingent upon the availability of funds, we may make additional awards in FY 2003 from the rank-ordered list of nonfunded applications from this competition.

Participation of Faith-based Organizations

Faith-based organizations are eligible to apply for grants under this competition provided they meet all statutory and regulatory requirements.

Application Requirements

To be considered for funding, an applicant is required to:

(1) Have conducted a needs assessment of the students being served or to be served by its program in terms of their progress toward meeting State standards for physical education;

(2) Based on the results of the needs assessment in (1), describe how the proposed activities will help students make progress toward meeting State standards for physical education; and

(3) Set measurable goals and objectives for the proposed project in terms of the student's progress toward meeting State standards for physical education, and provide a description of how progress toward achieving the goals and objectives will be measured annually.

Prohibited Uses of Funds

Grant funds made available under this program shall not be used for the following: (1) To hire teachers or other staff to provide direct instructional or other services to students; (2) to support extracurricular activities such as team sports and Reserve Officers' Training Corps (ROTC) program activities; or (3) to fund the construction of new buildings or other facilities such as athletic tracks or tennis courts.

Definitions

For the purpose of this competition, terms used in this notice have the following meanings:

Local Educational Agency

(A) General

In general, the term local educational agency means a public board of education or other public authority legally constituted within a State for either administrative control or direction of, or to perform a service function for, public elementary schools or secondary schools in a city, county, township, school district, or other political subdivision of a State, or of or for a combination of school districts or counties that is recognized in a State as an administrative agency for its public elementary or secondary schools.

(B) Administrative Control and Direction

The term includes any other public institution or agency having administrative control and direction of a public elementary school or secondary school.

(C) BIA Schools

The term includes an elementary school or secondary school funded by the Bureau of Indian Affairs, but only to the extent that including the school makes the school eligible for programs for which specific eligibility is not provided to the school in another provision of law and the school does not have a student population that is smaller than the student population of the local educational agency receiving assistance under the ESEA with the smallest student population, except that the school shall not be subject to the jurisdiction of any State educational agency other than the Bureau of Indian Affairs.

(D) Educational Service Agencies

The term includes educational service agencies and consortia of those agencies.

(E) State Educational Agency

The term includes the State educational agency in a State in which the State educational agency is the sole educational agency for all public schools.

Community-based organization means a public or private nonprofit organization of demonstrated effectiveness that: (a) is representative of a community or significant segments of a community; and (b) provides educational or related services to individuals in the community.

Nonprofit as applied to an agency, organization, or institution, means that it is owned and operated by one or more corporations or associations whose net earnings do not benefit, and cannot lawfully benefit, any private shareholder or entity.

Novice Applicant means—

(1) Any applicant for a grant from ED that—

(i) Has never received a grant or subgrant under the Carol M. White Physical Education program;

(ii) Has never been a member of a group application, submitted in accordance with § 75.127-75.129 of EDGAR, that received a grant under the Carol M. White Physical Education program; and

(iii) Has not had an active discretionary grant from the Federal Government in the five years before the deadline date for applications under this competition.

(2) In the case of a group application submitted in accordance with § 75.127-129, a group that includes only parties that meet the requirements of paragraph (1) above.

Note: A grant is active until the end of the grant's project or funding period, including any extensions of those periods that extend the grantee's authority to obligate funds.

Selection Criteria

The Assistant Secretary uses the following selection criteria to evaluate applications for new grants under this competition. The maximum score for all of these criteria is 100 points. The maximum score for each criterion or factor under that criterion is indicated in parentheses.

(1) Need for project (20 points)

In determining the need for the proposed project, the following factors are considered:

(a) The magnitude of the need for the services to be provided or the activities to be carried out by the proposed project; and

(b) The extent to which specific gaps or weaknesses in services, infrastructure, or opportunities have been identified and will be addressed by the proposed project, including the nature and magnitude of those gaps or weaknesses.

(2) Significance (20 points)

In determining the significance of the proposed project, the following factors are considered:

(a) The likelihood that the proposed project will result in system change or improvement;

(b) The extent to which the proposed project involves the development or demonstration of promising new strategies that build on, or are alternatives to, existing strategies; and

(c) The importance or magnitude of the results or outcomes likely to be attained by the proposed project, especially improvements in teaching and student achievement.

(3) Quality of the Project Design (45 Points)

In determining the quality of the design of the proposed project, the following factors are considered:

(a) The extent to which the proposed activities constitute a coherent, sustained program of training in the field;

(b) The extent to which the design of the proposed project reflects up-to-date knowledge from research and effective practice;

(c) The extent to which the goals, objectives, and outcomes to be achieved by the proposed project are clearly specified and measurable; and

(d) The extent to which the design of the proposed project is appropriate to, and will successfully address, the needs of the target population or other identified needs.

(4) Quality of the Project Evaluation (15 Points)

In determining the quality of the evaluation, the following factors are considered:

(a) The extent to which the methods of evaluation are thorough, feasible, and appropriate to the goals, objectives, and outcomes of the proposed project;

(b) The extent to which the methods of evaluation include the use of objective performance measures that are clearly related to the intended outcomes of the project and will produce quantitative and qualitative data to the extent possible; and

(c) The extent to which the methods of evaluation will provide performance feedback and permit periodic assessment of progress toward achieving intended outcomes.

Waiver of Proposed Rulemaking

Under the Administrative Procedure Act (5 U.S.C. 553), the Secretary generally offers interested parties the opportunity to comment on proposed rules. Section 437(d)(1) of the General Education Provisions Act, however, exempts from this requirement rules that apply to the first competition under a new or substantially revised program. This is the first competition under the Carol M. White Physical Education Program, which was substantially revised by the No Child Left Behind Act of 2001.

Applications and Information

For information about this competition contact Ethel Jackson, U.S. Department of Education, 400 Maryland Avenue, SW—Room 3E308, Washington, DC 20202-6123. Telephone: (202) 260-2812, e-mail address:

Ethel.Jackson@ed.gov.

If you use a telecommunications device for the deaf (TDD), you may call the Federal Information Relay Service (FIRS) at 1-888-877-8339.

For printed applications contact: Education Publications Center (EDPubs), P.O. Box 1398, Jessup, MD 20794-1398. Telephone (toll free): 1-877-433-7827. Fax: (301) 470-1244. If you use a telecommunications device for the deaf, you may call 1-877-576-7734. Web site: http://www.ed.gov/about/ordering.jsp>http://www.ed.gov/about/ordering.jsp. E-mail <mailto:edpubs@inet.ed.gov” edpubs@inet.ed.gov.

Individuals with disabilities may obtain this document, or an application package, in an alternative format (e.g., Braille, large print, audiotape, or computer diskette) on request to the contact person listed at the beginning of this section. However, the Department is not able to reproduce in an alternative format the standard forms included in the application package.

Electronic Access To This Document

You may view this document, as well as all other Department of Education documents published in the Federal Register, in text or Adobe Portable Document Format (PDF) on the Internet at the following site: www.ed.gov/legislation/FedRegister.

To use PDF, you must have Adobe Acrobat Reader, which is available free at the previous site. If you have questions about using PDF, call the U.S. Government Printing Office (GPO) toll free at 1-888-293-6498; or in the Washington, DC area at (202) 512-1530.

Note: The official version of this document is the document published in the Federal Register. Free Internet access to the official edition of the Federal Register and the Code of Federal Regulations is available on GPO Access at: http://www.access.gpo.gov/nara/index.html.

Pilot Project for Electronic Submission of Applications

In continuing to expand its pilot project of electronic submission of applications to include additional formula grant programs, as well as discretionary grant competitions. The Carol M. White Physical Education Program is one of the programs included in the pilot project. If you are an applicant under this grant competition, you may submit your application to us in either electronic or paper format.

The pilot project involves the use of the Electronic Grant Application System (e-APPLICATION, formerly e-GAPS) portion of the Grant Administration and Payment System (GAPS). We invite your participation in this pilot project. We will continue to evaluate its success and solicit suggestions for improvement.

If you participate in this e-APPLICATION pilot, please note the following:

• Your participation is voluntary.

• You will not receive any additional point value or penalty because you submit a grant application in electronic of paper format.

• You can submit all documents electronically, including the Application for Federal Assistance (ED Form 424), Budget Information—Non-Construction Programs, (ED Form 524), and all necessary assurances and certifications.

• Within three working days of submitting your electronic application, fax a signed copy of the Application for Federal Assistance (ED Form 424) to the Application Control Center following these steps:

1. Print ED Form 424 from the e-APPLICATION system.

2. Make sure that the applicant's Authorizing Representative signs this form.

3. Before faxing this form, submit your electronic application via the e-APPLICATION system. You will receive an automatic acknowledgement, which will include a PR/Award number an identifying number unique to your application).

4. Place the PR/Award number in the upper right corner ED Form 424.

5. Fax ED Form 424 to the Application Control Center within three business days of submitting your electronic application at (202) 260-1349.

• We may request that you give us original signatures on all other forms at a later date.

You may access the electronic grant application for the Carol M. White Physical Education Program at: http://e-grants.ed.gov.

We have included additional information on the e-APPLICATION pilot project (see Parity Guidelines between Paper and Electronic Applications) in the application package.

If you want to apply for a grant and be considered for funding, you must meet the deadline requirements included in this notice.

Program Authority: 20 U.S.C. 7261.

Dated: April 17, 2002.
Susan B. Neuman,
Assistant Secretary for Elementary and Secondary Education.

[FR Doc. 02-9934 Filed 4-22-02; 8:45 am]

BILLING CODE 4000-01-P